DEPARTMENT OF THE INTERIOR

National Park Service

[NPS-WASO-NAGPRA-NPS0039187; PPWOCRADN0-PCU00RP14.R50000]

Notice of Intended Repatriation: The Kikuchi Center at Kaua'i Community College, Līhu'e, HI

AGENCY: National Park Service, Interior.

ACTION: Notice.

SUMMARY: In accordance with the Native American Graves Protection and Repatriation Act (NAGPRA), the Kikuchi Center at Kaua'i Community College intends to repatriate certain cultural items that meet the definition of unassociated funerary objects and that have a cultural affiliation with the Indian Tribes or Native Hawaiian organizations in this notice.

DATES: Repatriation of the cultural items in this notice may occur on or after January 13, 2025.

ADDRESSES: Jason Ford, The Kikuchi Center at Kaua'i Community College, 3-1901 Kaumuali'i Highway, Līhu'e, HI 96766, telephone (808) 245-8236, email jford9@hawaii.edu.

SUPPLEMENTARY INFORMATION: This notice is published as part of the National Park Service's administrative responsibilities under NAGPRA. The determinations in this notice are the sole responsibility of the Kikuchi Center at Kaua'i Community College, and additional information on the determinations in this notice, including the results of consultation, can be found in the summary or related records. The National Park Service is not responsible for the determinations in this notice.

Abstract of Information Available

A total of five cultural items have been requested for repatriation. The five unassociated funerary objects are one 19th century non-human bone toothbrush, one hohoa style kapa beater, and three coral abraders. Item: one unassociated funerary object. Site Name: ARCH 14-138, site E2, site 50-10-37-6655. Geographical Location: Hōlualoa, Kona, Hawai'i. Collection History: ARCH 14-138 is an archaeological surface survey and excavation conducted by the Archaeology Research Center of Hawai`i (ARCH) circa 1980. The excavated materials for this project were inherited by the late Dr. Kikuchi, emeritus professor at Kaua'i Community College. The founding of the Kikuchi Center at Kaua'i Community College, an archive curating Dr. Kikuchi's materials, began September 2022, and processing of these materials began in 2024. Processing of ARCH 14-138 materials resulted in the discovery that the 19th century non-human bone toothbrush is an unassociated funerary object. The artifact bag containing this item states that this non-human bone toothbrush is associated with a Native Hawaiian burial and was found at the feet of the burial. It is dissociated from any known iwi kupuna. The ARCH 14-138 project report describes the burial crypt at site 50-10-37-6655, including a description of the non-human bone toothbrush being present there with iwi kupuna. Accession #: 50-10-37-6655-AR110.

Item: four unassociated funerary objects. Site Name: ARCH 14-152 III, site 50-10-37-6479, surface chamber 2, field #1, code 1. Geographical Location: La'aloa, Kona, Hawai'i. Collection History: ARCH 14-152 III is an archaeological surface survey and excavation conducted by the Archaeology Research Center of Hawai`i (ARCH) circa 1980. The excavated materials for this project were inherited by the late Dr. Kikuchi, emeritus professor at Kaua'i Community College. The founding of the Kikuchi Center at Kaua`i Community College, an archive curating Dr. Kikuchi's materials, began September 2022, and processing of these materials began in 2024. Processing and provenance research of ARCH 14-152 III materials resulted in the discovery that the one hohoa kapa beater and three coral abraders are unassociated funerary objects. Site 50-10-37-6479 is identified in the report as a lava tube with multiple chambers. The report states that the lava tube contained human remains. The items are dissociated from any known iwi kupuna. Accession #: 10-6479-AR83, 10-6479-AR76, 10-6479-AR78, 10-6479-AR77

Determinations

The Kikuchi Center at Kaua'i Community College has determined that:

• The five unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Hale Mua Cultural Group and Protect Keopuka Ohana.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 13, 2025. If competing requests for repatriation are received, the Kikuchi Center at Kaua'i Community College must determine the most appropriate requestor prior to repatriation. Requests for joint repatriation of the cultural items are considered a single request and not competing requests. The Kikuchi Center at Kaua'i Community College is responsible for sending a copy of this notice to the Indian Tribes and Native Hawaiian organizations identified in this notice and to any other consulting parties.

Authority: Native American Graves Protection and Repatriation Act, 25 U.S.C. 3004 and the implementing regulations, 43 CFR 10.9.

Dated: December 4, 2024.
Melanie O'Brien,
Manager, National NAGPRA Program.

[FR Doc. 2024-29262 Filed 12-11-24; 8:45 am]

BILLING CODE 4312-52-P